ENVIRONMENTAL PROTECTION AGENCY

40 CFR Part 52

[IN 171; FRL-9200-1]

Approval and Promulgation of Air Quality Implementation Plans; Indiana; Revised Format for Materials Being Incorporated by Reference

AGENCY: Environmental Protection Agency (EPA).

ACTION: Final rule; Administrative change.

SUMMARY: EPA is revising the format of its regulations for materials submitted by the State of Indiana that have been incorporated by reference (IBR) into its State Implementation Plan (SIP). The regulations and other materials affected by this format change have all been previously submitted by Indiana and approved by EPA as SIP revisions.

DATES: Effective Date: This final rule is effective on September 24, 2010.

ADDRESSES: SIP materials which are incorporated by reference into 40 CFR Part 52 are available for inspection at the following locations: Environmental Protection Agency, Region 5, 77 West Jackson Boulevard, Chicago, Illinois 60604; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call (202) 741-6030, or go to: http://www.archives.gov/federal_register/code_of_federal_regulations/ibr_locations.html.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

Table of Contents

I. Background

A. Description of a SIP

B. How EPA Enforces SIPs

C. How the State and EPA Update the SIP

D. How EPA Compiles the SIP

E. How EPA Organizes the SIP Compilation

F. Where You Can Find a Copy of the SIP Compilation

G. The Format of the New Identification of Plan Section

H. When a SIP Revision Becomes Part of the SIP and Federally Enforceable

I. The Historical Record of SIP Revision Approvals

II. What is EPA doing in this action?

III. Statutory and Executive Order Reviews

I. Background

A. Description of a SIP

Each State has a SIP containing the control measures and strategies to attain and maintain the National Ambient Air Quality Standards (NAAQS). The SIP is extensive, containing such elements as air pollution control regulations, emission inventories, monitoring networks, attainment demonstrations, and enforcement mechanisms.

B. How EPA Enforces SIPs

Before formally adopting required control measures and strategies, each State must provide the public with an opportunity to comment on them. The States then submit them to EPA as requested SIP revisions on which EPA must formally act.

If and when these control measures and strategies are approved by EPA, after notice and comment rulemaking, they are incorporated into the Federally approved SIP and identified in title 40 of the Code of Federal Regulations, part 52 (Approval and Promulgation of Implementation Plans) (40 CFR part 52). The actual State regulations approved by EPA are not reproduced in their entirety in 40 CFR part 52, but are “incorporated by reference,” which means that EPA has approved a given State regulation with a specific effective date. This format allows both EPA and the public to know which measures are contained in a given SIP and to help determine whether the State is enforcing the regulations.

C. How the State and EPA Update the SIP

The SIP is periodically revised as necessary to address the unique air pollution problems in the State. Therefore, EPA from time to time takes action on State SIP submissions containing new and/or revised regulations and other materials; if approved, they become part of the SIP. On May 22, 1997 (62 FR 27968), EPA revised the procedures for incorporating by reference Federally approved SIPs, as a result of consultations between EPA and the Office of the Federal Register (OFR).

As a result, EPA began the process of developing the following: (1) A revised SIP document for each State that would be incorporated by reference under the provisions of title 1 CFR part 51; (2) a revised mechanism for announcing EPA approval of revisions to an applicable SIP and updating both the IBR document and the CFR; and (3) a revised format of the “Identification of plan” sections for each applicable subpart to reflect these revised IBR procedures. The description of the revised SIP document, IBR procedures, and “Identification of plan” format are discussed in further detail in the May 22, 1997, Federal Register document.

D. How EPA Compiles the SIP

The Federally approved regulations, source-specific requirements, and nonregulatory provisions (entirely or portions of) submitted by each State agency and approved by EPA have been organized into a “SIP compilation.” The compilation is contained in three-ring binders and will be updated, primarily on an annual basis. The Indiana SIP compilation is available at the Environmental Protection Agency, Region 5 office: 77 West Jackson Boulevard, Chicago, Illinois 60604; (312) 886-2395.

E. How EPA Organizes the SIP Compilation

Each SIP compilation contains three parts approved by EPA: Part one contains regulations, part two contains source-specific requirements, and part three contains nonregulatory provisions. Each State's SIP compilation contains a table of identifying information for each of these three parts. In this action, EPA is publishing the tables summarizing the applicable SIP requirements for Indiana. The effective dates in the tables indicate the date of the most recent revision of each regulation. The EPA Region 5 Office has the primary responsibility for updating the compilation and ensuring its accuracy.

F. Where You Can Find a Copy of the SIP Compilation

EPA's Region 5 Office developed and will maintain the compilation for Indiana. A copy of the full text of Indiana's regulatory and source-specific compilations will also be maintained at NARA and EPA's Air Docket and Information Center.

G. The Format of the New Identification of Plan Section

In order to better serve the public, EPA revised the organization of the “Identification of plan” section and included additional information to clarify which provisions are the enforceable elements of the SIP.

The revised Identification of plan section contains five subsections: (a) Purpose and scope, (b) Incorporation by reference, (c) EPA-approved regulations, (d) EPA-approved source-specific requirements, and (e) EPA-approved nonregulatory provisions such as transportation control measures, statutes, control strategies, and monitoring networks.

H. When a State Submission Becomes Part of the SIP and Federally Enforceable

All revisions to the applicable SIP become Federally enforceable as of the effective date of the revisions to paragraphs (c), (d), or (e) of the applicable Identification of plan section found in each subpart of 40 CFR part 52.

I. The Historical Record of SIP Revision Approvals

To facilitate enforcement of previously approved SIP provisions and provide a smooth transition to the new SIP compilation, EPA has retained the original Identification of plan section, previously appearing in the CFR as the first or second section of part 52 for each State subpart. After an initial two-year period, EPA will review its experience with the new table format and will decide whether or not to retain the Identification of plan appendices for some further period.

II. What is EPA doing in this action?

Today's rule constitutes a record keeping exercise to ensure that all revisions to the State programs and accompanying SIP that have already occurred are accurately reflected in 40 CFR part 52. State SIP revisions are controlled by EPA regulations at 40 CFR part 51. When EPA receives a formal SIP revision request, the Agency must publish proposed rulemaking in the Federal Register and provide for public comment before approval.

EPA has determined that today's rule falls under the “good cause” exemption in section 553(b)(3)(B) of the Administrative Procedures Act (APA) which, upon finding “good cause,” authorizes agencies to dispense with public participation and section 553(d)(3) which allows an agency to make a rule effective immediately, thereby avoiding the 30-day delayed effective date otherwise provided for in the APA. Today's rule simply codifies provisions which are already in effect as a matter of law in Federal and approved State programs. Accordingly, we find that public comment is “unnecessary” and “contrary to the public interest” under section 553 of the APA, since the codification of the revised format for denoting IBR of the State materials into the SIP only reflects existing law and since immediate notice in the CFR benefits the public by removing outdated citations from the CFR.

III. Statutory and Executive Order Reviews

A. General Requirements

Under Executive Order 12866 (58 FR 51735, October 4, 1993), this action is not a significant regulatory action and is therefore not subject to review by the Office of Management and Budget. This rule is not subject to Executive Order 13211, Actions Concerning Regulations That Significantly Affect Energy Supply, Distribution, or Use (66 FR 28355, May 22, 2001) because it is not a significant regulatory action under Executive Order 12866. Because the agency has made a good cause finding that this action is not subject to notice-and-comment requirements under the Administrative Procedure Act or any other statute as indicated in the Supplementary Information section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian Tribes, on the relationship between the Federal government and Indian Tribes, or on the distribution of power and responsibilities between the Federal government and Indian Tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the Attorney General's Supplemental Guidelines for the Evaluation of Risk and Avoidance of Unanticipated Takings issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of September 24, 2010. EPA will submit a report containing this rule and other required information to the U.S. Senate, the U.S. House of Representatives, and the Comptroller General of the United States prior to publication of the rule in the Federal Register. This rule is not a major rule as defined by 5 U.S.C. 804(2).

C. Petitions for Judicial Review

EPA has also determined that the provisions of section 307(b)(1) of the Clean Air Act pertaining to petitions for judicial review are not applicable to this action. Prior EPA rulemaking actions for each individual component of the Indiana SIP compilation had previously afforded interested parties the opportunity to file a petition for judicial review in the United States Court of Appeals for the appropriate circuit within 60 days of such rulemaking action. Thus, EPA sees no need in this action to reopen the 60-day period for filing such petitions for judicial review for these “Identification of plan” reorganization actions for Indiana.

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides, Volatile organic compounds.

Dated: August 12, 2010.
Susan Hedman,
Regional Administrator, Region 5.

Part 52 of chapter I, title 40, Code of Federal Regulations, is amended as follows:

PART 52—[AMENDED]

1. The authority for citation for Part 52 continues to read as follows:

Authority: 42 U.S.C. 7401 et seq.

Subpart P—Indiana

§ 52.770 [Redesignated as § 52.800]

2. Section 52.770 is redesignated as § 52.800 and the section heading and paragraph (a) are revised to read as follows:

§ 52.800 Original identification of plan section.

(a) This section identifies the original “Air Implementation Plan for the State of Indiana” and all revisions submitted by Indiana that were Federally approved prior to December 31, 2009.

* * * * *

3. A new § 52.770 is added to read as follows:

§ 52.770 Identification of plan.

(a) Purpose and scope. This section sets forth the applicable State Implementation Plan (SIP) for Indiana under section 110 of the Clean Air Act, 42 U.S.C. 7401, and 40 CFR Part 51 to meet National Ambient Air Quality Standards.

(b) Incorporation by reference. (1) Material listed in paragraphs (c), (d), and (e) of this section with an EPA approval date prior to December 31, 2009, was approved for incorporation by reference by the Director of the Federal Register in accordance with 5 U.S.C. 552(a) and 1 CFR Part 51. Material is incorporated as it exists on the date of the approval, and notice of any change in the material will be published in the Federal Register. Entries in paragraphs (c), (d), and (e) of this section with an EPA approval date after December 31, 2009, will be incorporated by reference in the next update to the SIP compilation.

(2) EPA Region 5 certifies that the rules/regulations provided by the EPA in the SIP compilation at the addresses in paragraph (b)(3) of this section are an exact duplicate of the officially promulgated State rules/regulations which have been approved as part of the SIP as of December 31, 2009.

(3) Copies of the materials incorporated by reference may be inspected at the Environmental Protection Agency, Region 5, Air Programs Branch, 77 West Jackson Boulevard, Chicago, IL 60604; the EPA, Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal_register/code_of_federal_regulations/ibr_locations.html.

(c) EPA approved regulations.

EPA-Approved Indiana Regulations
Indiana citation | Subject | Indiana effective date | EPA approval date | Notes
Article 1. General Provisions
1-1 | Provisions Applicable Throughout Title 326 |  | 2/18/1982, 47 FR 6622 | Sec. 4 and 5.
|  | 6/24/1994 | 7/21/1997, 62 FR 38919 | Sec. 2.
|  | 3/16/2005 | 10/19/2005, 70 FR 60735 | Sec. 6.
|  | 7/31/2009 | 11/20/2009, 74 FR 60197 | Sec. 3.
1-2 | Definitions | 9/26/1980 | 11/5/1981, 46 FR 54943 | Sec. 1, 3, 5, 6, 7, 8, 9, 10, 11, 13, 16, 17, 18, 19, 20, 21, 22, 23, 24, 25, 26, 27, 28, 29, 30, 31, 32, 33, 34, 35, 36, 37, 38, 39, 40, 41, 42, 43, 44, 45, 46, 47, 49, 50, 51, 54, 55, 56, 57, 58, 59, 60, 61, 62, 63, 64, 65, 66, 67, 68, 69, 70, 71, 72, 73, 74, 75, 76, 77, 80, 81, 82, 83, 84, 85, 86, 87, 88, 89, 91.
|  | 5/18/1990 | 3/6/1992, 57 FR 8082 | Sec. 18.5, 21.5, 29.5, 29.6, 49.5.
|  | 6/5/1991 | 3/6/1992, 57 FR 8082 | Sec. 14.
|  | 6/11/1993 | 6/15/1995, 60 FR 31412 | Sec. 32.1, 34.1, 62.1, 63.1, 63.2.
|  | 1/21/1995 | 7/5/1995, 60 FR 34856 | Sec. 22.5, 28.5, 64.1.
|  | 6/24/1994 | 7/21/1997, 62 FR 38919 | Sec. 2, 4, 12, 33.1, 33.2.
|  | 1/19/2005 | 10/19/2005, 70 FR 60735 | Sec. 52, 52.2, 52.4, 82.5.
|  | 5/26/2007 | 3/18/2008, 73 FR 14389 | Sec. 48 and 90.
1-3 | Ambient Air Quality Standards |  | 11/27/1981, 46 FR 57895 | Sec. 1, 2, and 3.
|  | 4/5/2006 | 10/31/2006, 71 FR 63699 | Sec. 4.
1-5 | Episode Alert Levels |  | 5/31/1972, 37 FR 10842. |
1-6 | Malfunctions | 3/15/1984 | 5/3/1990, 55 FR 18604 | Sec. 2 to 6.
|  | 6/24/1994 | 7/21/1997, 62 FR 38919 | Sec. 1.
1-7 | Stack Height Provisions | 8/27/1980 | 3/12/1982, 47 FR 10824.
Article 2. Permit Review Rules
2-1.1 | General Provisions | 6/26/1999 | 6/27/2003, 68 FR 38197 | Sec. 6, 8.
|  | 9/10/2004 | 6/18/2007, 72 FR 33395 | Sec. 7.
|  | 12/16/2007 | 10/6/2009, 74 FR 51240 | Sec. 9.5.
2-2 | Prevention of Significant Deterioration (PSD) Requirements | 4/22/2001 | 6/27/2003, 68 FR 38197 | Sec. 10, 11, 13, 15, 16.
|  | 4/8/2004 | 5/20/2004, 69 FR 29071 | Sec. 1(m), 1(ll) and Sec. 12.
|  | 9/10/2004 | 6/18/2007, 72 FR 33395 | Sec. 1(a)-(l), (n)-(kk), (mm)-(tt), (uu)(1)-(4), (vv)-(aaa); 2(a)-(d)(4), (d)(6)-(e), (g)-(i); 3; 4; 5(a), (c)-(e); 6; 8;.
2-2.4 | Actual Plantwide Applicability Limitations in Attainment Areas | 9/10/2004 | 6/18/2007, 72 FR 33395.
2-3 | Emission Offset | 12/13/1993 | 10/7/1994, 59 FR 51108 | Sec. 4 and 5.
|  | 9/10/2004 | 6/18/2007, 72 FR 33395 | Sec. 1(a)-(i), (k)-(ff), (hh)-(uu); 2(a)-(c)(4), (c)(6)-(k), (m); 3(a)-(b)(11), (b)(14).
2-3.4 | Actual Plantwide Applicability Limitations in Nonattainment Areas | 9/10/2004 | 6/18/2007, 72 FR 33395.
2-5.1. | Construction of New Sources | 9/10/2004 | 6/18/2007, 72 FR 33395 | Sec. 4.
2-6 | Emission Reporting | 3/27/2004 | 10/29/2004, 69 FR 63069 | Sec. 2, 5.
|  | 8/13/2006 | 3/29/2007, 72 FR 14678 | Sec 1, 3, 4.
2-8 | Federally Enforceable State Operating Permit Program | 6/24/1994 | 8/18/1995, 60 FR 43008 | Sec. 1 to 17 except 4.
|  | 12/16/2007 | 10/6/2009, 74 FR 51240 | Sec. 4.
2-9 | Source Specific Operating Agreement Program | 6/24/1994 | 4/2/1996, 61 FR 14487 | Sec. 1, 2(a), 2(b), and 2(e).
Article 3. Monitoring Requirements
3-1 | Continuous Monitoring of Emissions |  | 9/4/1981, 46 FR 44448 | Sec. 1.
3-2.1 | Source Sampling Procedures | 7/15/1995 | 4/9/1996, 61 FR 15704 | Sec. 5.
3-5 | Continuous Monitoring of Emissions | 3/1/1998 | 12/28/2009, 74 FR 68541 | Sec. 1.
Article 4. Burning Regulations
4-1 | Open Burning |  | 6/22/1978, 43 FR 26722 | Sec. 4 and 5.
|  | 8/25/1982 | 5/18/1983, 48 FR 22294 | Sec. 0.5 and 2.
|  | 6/23/1995 | 2/1/1996, 61 FR 3581 | Sec. 3.
4-2 | Incinerators | 12/15/2002 | 11/30/2004, 69 FR 69531. |
Article 5. Opacity Regulations
5-1 | Opacity Limitations | 6/11/1993 | 6/15/1995, 60 FR 31412 | Sec. 4(a), 5(a), 5(c), 7.
|  | 11/8/1998 | 7/16/2002, 67 FR 46589 | Sec. 1, 2, 3, 4(b), 5(b).
Article 6. Particulate Rules
6-2 | Particulate Emission Limitations for Sources of Indirect Heating | 10/21/1983 | 5/17/1985, 50 FR 20569.
6-3 | Particulate Emission Limitations for Manufacturing Processes | 6/12/2002 | 7/25/2005, 70 FR 42495.
6-4 | Fugitive Dust Emissions | 11/16/1973 | 10/28/1975, 40 FR 50032.
6-7 | Particulate Matter Emissions Limitations for Southern Indiana Gas and Electric Company | 8/30/2008 | 11/10/2009, 74 FR 57904 | Sec. 1.
Article 6.5. Particulate Matter Limitations Except Lake County
6.5-1 | General Provisions | 9/9/2005 | 3/22/2006, 71 FR 14383.
6.5-2 | Clark County | 2/22/2008 | 4/30/2008, 73 FR 23356.
6.5-3 | Dearborn County | 2/22/2008 | 4/30/2008, 73 FR 23356.
6.5-4 | Dubois County | 2/22/2008 | 4/30/2008, 73 FR 23356.
6.5-5 | Howard County | 2/22/2008 | 4/30/2008, 73 FR 23356.
6.5-6 | Marion County | 2/22/2008 | 4/30/2008, 73 FR 23356.
6.5-7 | St. Joseph County | 2/22/2008 | 4/30/2008, 73 FR 23356.
6.5-8 | Vanderburgh County | 2/22/2008 | 4/30/2008, 73 FR 23356.
6.5-9 | Vigo County | 2/22/2008 | 4/30/2008, 73 FR 23356.
6.5-10 | Wayne County | 2/22/2008 | 4/30/2008, 73 FR 23356.
Article 6.8. Particulate Matter Limitations for Lake County
6.8-1 | General Provisions | 9/9/2005 | 3/22/2006, 71 FR 14383 | Sec. 1.5, 2, 3, 4, 6.
|  | 2/22/2008 | 4/30/2008, 73 FR 23356 | Sec. 1, 5, 7.
6.8-2 | Lake County: PM10 Emission Requirements | 2/22/2008 | 4/30/2008, 73 FR 23356.
6.8-3 | Lake County: Opacity Limits; Exceptions to 326 IAC 5-1-2 | 2/22/2008 | 4/30/2008, 73 FR 23356.
6.8-4 | Lake County: Opacity Limits; Test Methods | 2/22/2008 | 4/30/2008, 73 FR 23356.
6.8-5 | Lake County: Opacity Continuous Emissions Monitors | 2/22/2008 | 4/30/2008, 73 FR 23356 | Repealed.
6.8-6 | Lake County: Combustion Sources; Natural Gas | 2/22/2008 | 4/30/2008, 73 FR 23356.
6.8-7 | Lake County: Site-Specific Control Requirements | 2/22/2008 | 4/30/2008, 73 FR 23356.
6.8-8 | Lake County: Continuous Compliance Plan | 9/9/2005 | 3/22/2006, 71 FR 14383 | Sec. 2 to 8.
|  | 2/22/2008 | 4/30/2008, 73 FR 23356 | Sec. 1.
6.8-9 | Lake County: PM10 Coke Battery Emission Requirements | 9/9/2005 | 3/22/2006, 71 FR 14383 | Sec. 1 and 2.
|  | 2/22/2008 | 4/30/2008, 73 FR 23356 | Sec. 3.
6.8-10 | Lake County: Fugitive Particulate Matter | 9/9/2005 | 3/22/2006, 71 FR 14383 | Sec. 2, 3, 4.
|  | 2/22/2008 | 4/30/2008, 73 FR 23356 | Sec. 1.
6.8-11 | Lake County: Particulate Matter Contingency Measures | 9/9/2005 | 3/22/2006, 71 FR 14383.
Article 7. Sulfur Dioxide Rules
7-1.1 | Sulfur Dioxide Emission Limitations | 6/24/2005 | 9/26/2005, 70 FR 56129.
7-2 | Compliance | 6/24/2005 | 9/26/2005, 70 FR 56129.
7-3 | Ambient Monitoring |  | 5/13/1982, 47 FR 20583 | Sec. 2.
7-4 | Emission Limitations and Requirements by County | 4/10/1988 | 9/1/1988, 53 FR 33808 | Sec. 4 to 7, 9.
|  | 5/13/1988 | 12/16/1988, 53 FR 50521 | Sec. 11.
|  | 4/10/1988 | 1/19/1989, 54 FR 2112 | Sec. 8.
|  | 10/23/1988 | 1/19/1989, 54 FR 2112 | Sec. 14.
|  | 12/5/1990 | 9/19/1994, 59 FR 47804 | Sec. 12.1.
|  | 3/11/1999 | 8/2/2000, 65 FR 47336 | Sec. 2.
|  | 6/12/1999 | 8/29/2000, 65 FR 52315 | Sec. 1.1.
|  | 9/30/2004 | 2/28/2005, 70 FR 9533 | Sec. 3.
|  | 3/16/2005 | 2/28/2006, 71 FR 9936 | Sec. 13.
|  | 8/30/2008 | 11/10/2009, 74 FR 57904 | Sec. 10.
7-4.1 | Lake County Sulfur Dioxide Emission Limitations | 6/24/2005 | 9/26/2005, 70 FR 56129.
Article 8. Volatile Organic Compound Rules
8-1 | General Provisions |  | 10/27/1982, 47 FR 20586 | Sec. 7.
|  | 1/14/1986 | 9/4/1987, 52 FR 33590 | Sec. 3.
|  | 11/10/1988 | 9/6/1990, 55 FR 36635 | Sec. 5.
|  | 6/5/1991 | 3/6/1992, 57 FR 8082 | Sec. 1.
|  | 5/22/1997 | 6/29/1998, 63 FR 35141 | Sec. 9, 10, 11, 12.
|  | 10/18/1995 | 11/3/1999, 64 FR 59642 | Sec. 0.5.
|  | 7/15/2001 | 9/11/2002, 67 FR 57515 | Sec. 4.
|  | 12/15/2002 | 5/5/2003, 68 FR 23604 | Sec. 2.
|  | 6/24/2006 | 6/13/2007, 72 FR 32531 | Sec. 6.
8-2 | Surface Coating Emission Limitations |  | 10/27/1982, 47 FR 20586 | Sec. 4, 6, 7, 8.
|  |  | 1/18/1983, 48 FR 2124 | Sec. 10.
|  |  | 2/10/1986, 51 FR 4912 | Sec. 2 and 3.
|  | 4/10/1988 | 11/24/1990, 55 FR 39141 | Sec. 12.
|  | 2/15/1990 | 3/6/1992, 57 FR 8082 | Sec. 5.
|  | 6/5/1991 | 3/6/1992, 57 FR 8082 | Sec. 1.
|  | 10/23/1988 | 3/6/1992, 57 FR 8082 | Sec. 11.
|  | 12/15/2002 | 7/21/2003, 68 FR 42978 | Sec. 9.
8-3 | Organic Solvent Degreasing Operations |  | 10/27/1982, 47 FR 47554 | Sec. 2, 3, 4.
|  | 6/5/1991 | 3/6/1992, 57 FR 8082 | Sec. 5, 6, 7.
|  | 5/27/1999 | 9/14/2001, 66 FR 47887 | Sec. 1, 8.
8-4 | Petroleum Sources |  | 1/18/1983, 48 FR 2127 | Sec. 2, 4, 5.
|  |  | 2/10/1986, 51 FR 4912 | Sec. 3.
|  | 6/5/1991 | 3/6/1992, 57 FR 8082 | Sec. 8.
|  | 10/18/1995 | 11/3/1999, 64 FR 59642 | Sec. 6.
|  | 5/23/1999 | 12/20/1999, 64 FR 71031 | Sec. 1(c).
|  | 11/5/1999 | 5/31/2002, 67 FR 38006 | Sec. 7, 9.
8-5 | Miscellaneous Operations |  | 1/18/1983, 48 FR 2124 | Sec. 4.
|  |  | 2/10/1986, 51 FR 4912 | Sec. 2.
|  | 5/18/1990 | 3/6/1992, 57 FR 8082 | Sec. 3.
|  | 5/22/1997 | 6/29/1998, 63 FR 35141 | Sec. 5.
|  | 3/22/2007 | 2/20/2008, 73 FR 9201 | Sec. 1 and 6.
8-6 | Organic Solvent Emission Limitations |  | 1/18/1983, 48 FR 2124.
8-7 | Specific VOC Reduction Requirements for Lake, Porter, Clark, and Floyd Counties | 1/21/1995 | 7/5/1995, 60 FR 34856.
8-8 | Municipal Solid Waste Landfills Located in Clark, Floyd, Lake, and Porter Counties | 1/18/1996 | 1/17/1997, 62 FR 2591.
8-9 | Volatile Organic Liquid Storage Vessels | 1/18/1996 | 1/17/1997, 62 FR 2593.
8-10 | Automobile Refinishing | 11/2/1995 | 6/13/1996, 61 FR 29965 | Sec. 2, 4, 7, 8.
|  | 5/23/1999 | 12/20/1999, 64 FR 71031 | Sec. 3.
|  | 8/13/1998 | 12/20/1999, 64 FR 71031 | Sec. 1, 5, 6, 9.
8-11 | Wood Furniture Coating | 1/4/1996 | 10/30/1996, 61 FR 55889.
8-12 | Shipbuilding or Ship Repair Operations in Clark, Floyd, Lake, and Porter Counties | 5/1/1996 | 1/22/1997, 62 FR 3216 | Sec. 1, 3.
|  | 7/15/2001 | 4/1/2003, 68 FR 15664 | Sec. 2, 4, 5, 6, 7.
8-13 | Sinter Plants | 7/24/1998 | 7/5/2000, 65 FR 41350.
Article 9. Carbon Monoxide Emission Rules
9-1 | Carbon Monoxide Emission Limits | 12/15/2002 | 11/30/2004, 69 FR 69531.
Article 10. Nitrogen Oxides Rules
10-1 | Nitrogen Oxides Control in Clark and Floyd Counties | 6/12/1996 | 6/3/1997, 62 FR 30253.
10-3 | Nitrogen Oxide Reduction Program for Specific Source Categories | 9/16/2001 | 11/8/2001, 66 FR 56465 | Sec. 2, 4, 5, 6.
|  | 8/6/2003 | 12/11/2003, 68 FR 69025 | Sec. 1.
|  | 2/26/2006 | 10/1/2007, 72 FR 55664 | Sec. 3.
10-4 | Nitrogen Oxides Budget Trading Program | 9/16/2001 | 11/8/2001, 66 FR 56465 | Sec. 4, 5, 6, 7, 8, 11, 12.
|  | 8/6/2003 | 12/11/2003, 68 FR 69025 | Sec. 10.
|  | 2/26/2006 | 10/1/2007, 72 FR 55664 | Sec. 1, 2, 3, 9, 13, 14, 15.
10-5 | Nitrogen Oxide Reduction Program for Internal Combustion Engines (ICE) | 2/26/2006 | 10/1/2007, 72 FR 55664.
10-6 | Nitrogen Oxides Emissions Limitations for Southern Indiana Gas and Electric Company | 8/30/2008 | 11/10/2009, 74 FR 57904 | Sec. 1.
Article 11. Emission Limitations for Specific Types of Operations
11-1 | Existing Foundries | 7/25/1968 | 5/31/1972, 37 FR 10863.
11-3 | Coke Oven Batteries | 9/26/1980 | 12/1/1983, 48 FR 54615 | Sec. 1, 3, 5.
|  | 6/11/1993 | 6/15/1995, 60 FR 31412 | Sec. 2(a)-(f), 2(i), 4.
11-4 | Fiberglass Insulation Manufacturing | 9/26/1980 | 4/3/1984, 49 FR 13144 | Sec. 1, 2, 3, 4.
|  | 9/27/2002 | 12/9/2002, 67 FR 72844 | Sec. 5.
11-5 | Fluoride Emission Limitations for Existing Primary Aluminum Plants | 2/6/1981 | 11/27/1981, 46 FR 57892.
Article 13. Motor Vehicle Emission and Fuel Standards
13-1.1 | Motor Vehicle Inspection and Maintenance Requirements | 1/22/1999 | 9/27/2001, 66 FR 49297.
13-3 | Control of Gasoline Reid Vapor Pressure | 12/15/2002 | 7/21/2003, 68 FR 42978 | Sec. 1.
|  | 8/5/1995 | 2/9/1996, 61 FR 4895 | Sec. 2 to 7.
Article 14. Emission Standards for Hazardous Air Pollutants
14-1 | General Provisions | 5/13/1988 | 9/17/1992, 57 FR 42889.
14-8 | Emission Standard for Equipment Leaks (Fugitive Emission Sources) | 5/13/1988 | 9/17/1992, 57 FR 42889.
14-9 | Emission Limitations for Benzene from Furnace Coke Oven By-Product Recovery Plants | 5/13/1988 | 9/17/1992, 57 FR 42889.
Article 15. Lead Rules
15-1 | Lead Emission Limitations | 7/14/1989 | 8/17/1989, 54 FR 33894 | Sec. 1 and 4.
|  | 4/27/1994 | 5/3/1995, 60 FR 21717 | Sec. 2(a)(1)-(a)(6), (a)(8)-(b).
|  | 2/5/1999 | 12/28/1999, 64 FR 72561 | Sec. 2(a)(7)(A)-(G).
|  | 12/31/2000 | 1/15/2008, 73 FR 2428 | Sec. 2(c) and 3.
Article 16. State Environmental Policy
16-3 | General Conformity | 7/6/1996 | 1/14/1998, 63 FR 2146 | Sec. 1.
Article 19. Mobile Source Rules
19-3 | Clean Fuel Fleet Vehicles | 1/18/1996 | 3/21/1996, 61 FR 11552.
Article 20. Hazardous Air Pollutants
20-10 | Bulk Gasoline Distribution Facilities | 11/4/1999 | 5/31/2002, 67 FR 38006.
20-13 | Secondary Lead Smelters | 12/31/2000 | 1/15/2008, 73 FR 2428 | Sec. 1(c), 2(a), and 6.
Article 24. Trading Programs: Nitrogen Oxides (NOX) and Sulfur Dioxide (SO2)
24-1 | Clean Air Interstate Rule Nitrogen Oxides Annual Trading Program | 2/25/2007 | 10/22/2007, 72 FR 59480 | Sec. 2(36), 2(38), 2(60), 8, 12.
24-2 | Clean Air Interstate Rule (CAIR) Sulfur Dioxide Trading Program | 2/25/2007 | 10/22/2007, 72 FR 59480 | Sec. 11.
24-3 | Clean Air Interstate Rule (CAIR) NOX Ozone Season Trading Program | 2/25/2007 | 10/22/2007, 72 FR 59480 | Sec. 1, 2(38), 2(49), 2(61), 8, 12.

(d) EPA approved State source-specific requirements.

EPA-Approved Indiana Source-Specific Provisions
CO date | Title | SIP rule | EPA approval | Explanation
10/1/1999 | ALCOA-Warrick | 5-1-2 | 7/5/2000, 65 FR 41352 (also see 64 FR 40287) | Alt. opacity limits (permit).
12/15/1999 | ALCOA-Warrick | 5-1-2 | 7/5/2000, 65 FR 41352 (also see 64 FR 40287) | Alt. opacity limits (permit).
10/12/1999 | Crane Naval | 8-2-9 | 12/31/2002, 67 FR 79859 | Exemption.
2/11/2004 | Eli Lilly | 8-5-3 | 11/8/2004, 69 FR 64661 | Exemption.
12/22/2004 | Transwheel | 8-3-5(a)(5)(C) | 4/12/2005, 70 FR 19000 | Equivalent control.

(e) EPA approved nonregulatory and quasi-regulatory provisions.

EPA-Approved Indiana Nonregulatory and Quasi-Regulatory Provisions
Title | Indiana date | EPA approval | Explanation
Carbon Monoxide Control Strategy—Lake and Porter Co |  | 1/19/2000, 65 FR 2883 | Paragraph (b).
Carbon Monoxide Control Strategy—Lake and Marion Cos | ¹ 1/12/2009 | 10/15/2009, 74 FR 52891 | Paragraph (c).
Chicago Hydrocarbon Control Strategy |  | 8/26/2004, 69 FR 52427 | Paragraph (aa).
Chicago-Gary Hydrocarbon Control Strategy |  | 12/30/2008, 73 FR 79652 | Paragraph (kk).
Control Strategy: Particulate Matter |  | 11/27/2009, 74 FR 62243 | Paragraph (s).
Evansville Hydrocarbon Control Strategy |  | 12/29/2005, 70 FR 77026 | Paragraph (ee).
Fluoride Emission Limitations for Existing Primary Aluminum Plants |  | 3/11/2003, 68 FR 11472 | Removed from SIP, replaced by NESHAP.
Fort Wayne Hydrocarbon Control Strategy |  | 1/11/2007, 72 FR 1292 | Paragraph (ff).
Greene and Jackson Counties Hydrocarbon Control Strategy |  | 11/14/2005, 70 FR 69085 | Paragraph (bb).
Indianapolis Hydrocarbon Control Strategy |  | 10/19/2007, 72 FR 59210 | Paragraph (jj).
LaPorte Hydrocarbon Control Strategy |  | 7/19/2007, 72 FR 39574 | Paragraph (gg).
Lead Control Strategy—Marion County |  | 5/10/2000, 65 FR 29959 | Paragraph (d).
Lead Control Strategy—Marion County | ¹ 4/1/2009 | 9/24/2009, 74 FR 48659 | Paragraph (e).
Louisville Hydrocarbon Control Strategy |  | 9/20/2004, 69 FR 56171 | Paragraph (z).
Louisville Hydrocarbon Control Strategy |  | 7/19/2007, 72 FR 39571 | Paragraph (ii).
Muncie Hydrocarbon Control Strategy |  | 11/16/2005, 70 FR 69443 | Paragraph (cc).
Ozone Monitoring Season | 2/19/1991 | 12/10/1991, 56 FR 64482.
PM10 Maintenance Plan for Lake County | 9/25/2002 | 1/10/2003, 68 FR 1370 | Paragraph (r), also redesignation.
Particulate Control Strategy—Vermillion County |  | 8/26/1997, 62 FR 45168 | Paragraph (q).
Small Business Compliance Assistance Program |  | 9/2/1993, 58 FR 46541.
South Bend-Elkhart Hydrocarbon Control Strategy |  | 7/19/2007, 72 FR 39577 | Paragraph (hh).
Sulfur Dioxide Control Strategy—LaPorte, Marion, Vigo, and Wayne Counties |  | 11/15/1996, 61 FR 58482 | Paragraph (f) and (g).
Terre Haute Hydrocarbon Control Strategy |  | 1/5/2006, 71 FR 541 | Paragraph (dd).

[FR Doc. 2010-23802 Filed 9-23-10; 8:45 am]

BILLING CODE 6560-50-P